NUCLEAR REGULATORY COMMISSION

Advisory Committee on Nuclear Waste and Materials; Meeting Notice

The Advisory Committee on Nuclear Waste and Materials (ACNW&M) will hold its 186th meeting on February 12-14, 2008, at 11545 Rockville Pike, Rockville, Maryland.

Tuesday, February 12, 2008, Room T-2B3

10 a.m.-10:05 a.m.: Opening Remarks by the ACNW&M Chairman (Open)—The Chairman will make opening remarks regarding the conduct of today's sessions.

10:05 a.m.-11:30 a.m.: Semiannual Briefing by the Office of Nuclear Material Safety and Safeguards (NMSS) (Open)—NMSS Office Director and Division Directors will brief the Committee on recent and future activities of interest within their respective programs.

11:30 a.m.-12:00 p.m.: Discussion of ACNW&M Letter Reports (Open)—Discussion of proposed and potential ACNW&M letter reports.

1 p.m.-2:30 p.m.: Draft Guidance on Preventing Legacy Sites (Open)—A representative from the Office of Federal and State Materials and Environmental Management Programs (FSME) will brief the Committee on the draft guidance prepared as part of the Decommissioning Planning and Rulemaking.

2:45 p.m.-4 p.m.: Corrosion of Waste Package and Spent Fuel Dissolution in a Repository Environment (Open)—NRC staff representatives from the Division of High-Level Waste and Repository Safety (DHLWRS), Office of Nuclear Material Safety and Safeguards, will brief the Committee on waste package corrosion and spent fuel dissolution under potential repository conditions.

4 p.m.-5:30 p.m.: Discussion of ACNW&M Letter Reports (Open)—The Committee will discuss potential and proposed ACNW&M letter reports.

Wednesday, February 13, 2008, Room T-2B3

8:30 a.m.-8:35 a.m.: Opening Remarks by the ACNW&M Chairman (Open)—The Chairman will make opening remarks regarding the conduct of today's sessions.

8:35 a.m.-9:30 a.m.: ACNW&M Meeting with NRC Commissioner Peter B. Lyons (Open)—Commissioner Lyons will address the Committee on current topics and issues of common interest.

9:30 a.m.-12 p.m.: Discussion of ACNW&M Letter Reports (Open)—The Committee will discuss potential and proposed ACNW&M letter reports.

1 p.m.-5 p.m.: ACNW&M Working Group Meeting on Managing Low Activity Radioactive Waste (LAW) (Open)—The purpose of this Working Group Meeting is to understand how low-activity radioactive waste (LAW) is being managed in the United States, and to determine if there are ways to improve its management.

1 p.m.-1:15 p.m.: Greetings and Introductions (Open)—Introductory remarks by Dr. Michael Ryan.

1:15 p.m.-2:30 p.m.: Session I: What is LAW (Open)—Dr. Michael Ryan will provide an overview of the expected goals for the Working Group Meeting, the planned technical sessions, and introduce the invited speakers. Two presentations will follow Dr. Ryan's overview.

2:45 p.m.-4:45 p.m.: Session II: Risk-Based Approaches to the Regulation of LAW (Open)—This session includes four presentations.

Thursday, February 14, 2008, Room T-2B3

8:30 a.m.-4:15 p.m.: ACNW&M Working Group Meeting on Managing Low Activity Radioactive Waste (LAW) (Open)—Continued from the previous day.

8:30 a.m.-12 p.m.: Session III: Alternative Disposal Methods for LAW (Open)—Several case studies will be discussed during this session.

1 p.m.-3:30 p.m.: Session IV: Working Group Meeting Impressions and Recommendations (Open)

3:45 p.m.-4:15 p.m.: International Commission on Radiological Protection (ICRP) Draft Report on Environmental Protection: The Concept and Use of Reference Animals and Plants (Open)—Representatives of the NRC staff will discuss with the Committee preliminary views regarding the new ICRP's Draft Report on Environmental Protection.

4:15 p.m.-5 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefore can be obtained by contacting Dr. Dias.

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

During the days of the meeting, phone number 301-415-7360 should be used in order to access anyone in the ACNW&M Office.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Dated: Jaunary 23, 2008.
Andrew L. Bates,
Advisory Committee Management Officer.

[FR Doc. E8-1497 Filed 1-28-08; 8:45 am]

BILLING CODE 7590-01-P